DEPARTMENT OF JUSTICE

Notice of Lodging of Proposed Consent Decree Under the Comprehensive Environmental Response, Compensation, and Liability Act

On August 30, 2021, the Department of Justice lodged a proposed Consent Decree with the United States District Court for the Western District of Oklahoma in United States v. Land O'Lakes, Inc., et al., Civil Case No. 5:16-cv-00170 (W.D. Okla.).

The United States filed this lawsuit under Section 107 of the Comprehensive Environmental Response, Compensation, and Liability Act (“CERCLA”), 42 U.S.C. 9607, to recover its past response costs incurred at the Hudson Refinery Superfund Site in Cushing, Oklahoma (“Site”). The Consent Decree requires that Defendants pay the United States $5.7 million to reimburse those past response costs. The Consent Decree also resolves alleged violations by Defendant Land O'Lakes, Inc. of a U.S. Environmental Protection Agency CERCLA Unilateral Administrative Order at the Site.

The publication of this notice opens a period for public comment on the proposed Consent Decree. Comments should be addressed to the Assistant Attorney General, Environment and Natural Resources Division, and should refer to United States v. Land O'Lakes, Inc., et al., DJ# 90-11-3-11365, Civil Case No. 5:16-cv-00170 (W.D. Okla.). All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611.

During the public comment period, the proposed Consent Decree may be examined and downloaded at this Justice Department website: https://www.justice.gov/enrd/consent-decrees. We will provide a paper copy of the proposed amendments upon written request and payment of reproduction costs. Please mail your request and payment to: Consent Decree Library, U.S. DOJ—ENRD, P.O. Box 7611, Washington, DC 20044-7611.

Please enclose a check or money order for $6.25 (25 cents per page reproduction cost) payable to the United States Treasury.

Thomas Carroll,
Assistant Section Chief, Environmental Enforcement Section, Environment and Natural Resources Division.

[FR Doc. 2021-19668 Filed 9-10-21; 8:45 am]

BILLING CODE 4410-15-P